DEPARTMENT OF TRANSPORTATION

Federal Aviation Administration

14 CFR Part 39

[Docket No. FAA-2024-0770; Project Identifier MCAI-2024-00039-T; Amendment 39-22913; AD 2024-25-11]

RIN 2120-AA64

Airworthiness Directives; Airbus SAS Airplanes

AGENCY: Federal Aviation Administration (FAA), DOT.

ACTION: Final rule.

SUMMARY: The FAA is superseding Airworthiness Directive (AD) 2022-19-02, which applied to certain Airbus SAS Model A330-200, -200 Freighter, and -300 series airplanes; and Model A330-841 and A330-941 airplanes. AD 2022-19-02 required revising the existing maintenance or inspection program, as applicable, to incorporate new or more restrictive airworthiness limitations. This AD was prompted by a determination that new or more restrictive airworthiness limitations are necessary. This AD continues to require certain actions in AD-2022-19-02, and requires revising the existing maintenance or inspection program, as applicable, to incorporate new or more restrictive airworthiness limitations; as specified in a European Union Aviation Safety Agency (EASA) AD, which is incorporated by reference. The FAA is issuing this AD to address the unsafe condition on these products.

DATES: This AD is effective March 7, 2025.

The Director of the Federal Register approved the incorporation by reference of a certain publication listed in this AD as of March 7, 2025.

The Director of the Federal Register approved the incorporation by reference of a certain other publication listed in this AD as of December 22, 2022 (87 FR 68891, November 17, 2022).

ADDRESSES:

AD Docket: You may examine the AD docket at regulations.gov under Docket No. FAA-2024-0770; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-0770.

FOR FURTHER INFORMATION CONTACT: Vladimir Ulyanov, Aviation Safety Engineer, FAA, 2200 South 216th St., Des Moines, WA 98198; phone: 206-231-3229; email: vladimir.ulyanov@faa.gov.

SUPPLEMENTARY INFORMATION:

Background

The FAA issued a notice of proposed rulemaking (NPRM) to amend 14 CFR part 39 to supersede AD 2022-19-02, Amendment 39-22171 (87 FR 68891, November 17, 2022) (AD 2022-19-02). AD 2022-19-02 applied to certain Airbus SAS Model A330-200, -200 Freighter, and -300 series airplanes; and Model A330-841 and A330-941 airplanes. AD 2022-19-02 required revising the existing maintenance or inspection program, as applicable, to incorporate additional new or more restrictive airworthiness limitations. The FAA issued AD 2022-19-02 to address the failure of system components, which could reduce the controllability of the airplane.

The NPRM published in the Federal Register on April 1, 2024 (89 FR 22358). The NPRM was prompted by AD 2024-0014, dated January 10, 2024, issued by EASA, which is the Technical Agent for the Member States of the European Union (EASA AD 2024-0014) (also referred to as the MCAI). The MCAI states that new or more restrictive airworthiness limitations have been developed.

In the NPRM, the FAA proposed to continue to require certain actions in AD 2022-19-02, and to require revising the existing maintenance or inspection program, as applicable, to incorporate new or more restrictive airworthiness limitations, as specified in EASA AD 2024-0014. The FAA is issuing this AD to address the failure of system components. The unsafe condition, if not addressed, could reduce the controllability of the airplane.

You may examine the MCAI in the AD docket at regulations.gov under Docket No. FAA-2024-0770.

Discussion of Final Airworthiness Directive

Comments

The FAA received a comment from Delta Air Lines (Delta). The following presents the comments received on the NPRM and the FAA's response to each relevant comment.

Request To Supersede Two ADs for Certain Airplanes

Delta requested that the FAA supersede FAA AD 2013-16-11, Amendment 39-17549 (78 FR 52405, August 23, 2013) (AD 2013-16-11) and FAA AD 2013-22-02, Amendment 39-17634 (78 FR 65187, October 31, 2013) (AD 2013-22-02) for the Airbus SAS Model A330-300 series airplanes in their applicability, since the actions in the proposed AD would duplicate the requirements of those ADs. Delta noted that the proposed AD would continue to require certain actions in AD 2022-19-02 and would require revising the existing maintenance or inspection program, as applicable, to incorporate new or more restrictive airworthiness limitations, specifically, Airbus A330 ALS Part 4 Revision 9, dated October 2, 2023, (A330 ALS Part 4 Revision 9) as specified in EASA AD 2024-0014. Delta added that the A330 ALS Part 4 Revision 9 includes two new tasks that duplicate the requirements in AD 2013-16-11 and AD 2013-22-02, providing an equivalent level of safety. Delta noted that those FAA ADs did not IBR the corresponding EASA ADs mentioned in the two new tasks. Delta stated that FAA AD 2013-16-11 requires a trimmable horizontal stabilizer actuator (THSA) ball screw shaft integrity test in accordance with the Accomplishment Instructions of Airbus Mandatory Service Bulletin A330-27-3191, dated June 7, 2012, while task 274400-00006-1-E of A330 ALS Part 4 Revision 9 requires that integrity check with the same compliance time and gives credit for the last inspection using that service information. Delta added that FAA AD 2013-22-02 requires repetitive inspections of the gaps between the screw shaft and the tie rod teeth of the THSA in accordance with the Accomplishment Instructions of Airbus Mandatory Service Bulletin A330-27-3179, Revision 01, while task 274400-00005-1-E requires those inspections with the same compliance time and gives credit for the last inspection using that service information.

The FAA disagrees with the commenter's request because AD 2013-16-11 and AD 2013-22-02 are applicable not only to Airbus SAS Model A330-300 series airplanes, but also to Model A340-200 and -300 series airplanes fitted with THSAs having specific part numbers. The A330 ALS Part 4 Revision 9 tasks are applicable to THSAs with Part Number (P/N) 47147-710, while FAA AD 2013-16-11 is applicable to any THSAs with P/N 47147-500 or P/N 47147-700, and FAA AD 2013-22-02 requires inspection of any THSA having P/N 47147-500 or P/N 47147-700. Furthermore, compliance times and corrective actions, including the replacement of the affected part, are more detailed in the ADs than in the A330 ALS Part 4 Revision 9. Additionally, EASA did not terminate or supersede EASA ADs 2012-0061R1, dated November 30, 2012 (which corresponds to FAA AD 2013-22-02) and 2012-0210, dated October 11, 2012 (which corresponds to FAA AD 2013-16-11). The FAA has not changed this AD as a result of this comment.

Additional Changes Made to This Final Rule

The FAA revised the Costs of Compliance Section of this final rule to include the estimated costs of retained actions, which were inadvertently omitted from the NPRM.

The FAA also added paragraph (m) of this AD to specify terminating action for certain other ADs and added those ADs to paragraph (b) of this AD. The FAA intended to carry over this terminating action from AD 2022-19-02.

The FAA also removed paragraph (m)(3) of the proposed AD, which related to using service information with required for compliance (RC) tagging, since the required service information does not use RC tagging.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

The FAA reviewed EASA AD 2024-0014. This material specifies new or more restrictive airworthiness limitations for airplane structures and safe life limits.

This AD also requires EASA AD 2021-0250, dated November 17, 2021, which the Director of the Federal Register approved for incorporation by reference as of December 22, 2022 (87 FR 68891, November 17, 2022).

This material is reasonably available because the interested parties have access to it through their normal course of business or by the means identified in the ADDRESSES section.

Costs of Compliance

The FAA estimates that this AD affects 140 airplanes of U.S. registry. The FAA estimates the following costs to comply with this AD:

The FAA estimates the total cost per operator for the retained actions from AD 2022-19-02 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-19-02, Amendment 39-22171 (87 FR 68891, November 17, 2022); and

b. Adding the following new AD:

2024-25-11 Airbus SAS: Amendment 39-22913; Docket No. FAA-2024-0770; Project Identifier MCAI-2024-00039-T.

(a) Effective Date

This airworthiness directive (AD) is effective March 7, 2025.

(b) Affected ADs

(1) This AD replaces AD 2022-19-02, Amendment 39-22171 (87 FR 68891, November 17, 2022) (AD 2022-19-02).

(2) This AD affects AD 2014-16-22, Amendment 39-17946 (79 FR 49442, August 21, 2014) (AD 2014-16-22).

(3) This AD affects AD 2017-25-13, Amendment 39-19127 (82 FR 59960, December 18, 2017) (AD 2017-25-13).

(c) Applicability

This AD applies to Airbus SAS airplanes specified in paragraphs (c)(1) through (5) of this AD, certificated in any category, with an original airworthiness certificate or original export certificate of airworthiness issued on or before October 2, 2023.

(1) Model A330-201, -202, -203, -223, and -243 airplanes.

(2) Model A330-223F and -243F airplanes.

(3) Model A330-301, -302, -303, -321, -322, -323, -341, -342, and -343 airplanes.

(4) Model A330-841 airplanes.

(5) Model A330-941 airplanes.

(d) Subject

Air Transport Association (ATA) of America Code 05, Time Limits/Maintenance Checks.

(e) Unsafe Condition

This AD was prompted by a determination that new or more restrictive airworthiness limitations are necessary. The FAA is issuing this AD to address the failure of system components. The unsafe condition, if not addressed, could reduce the controllability of the airplane.

(f) Compliance

Comply with this AD within the compliance times specified, unless already done.

(g) Retained Revision of the Existing Maintenance or Inspection Program, With No Changes

This paragraph restates the requirements of paragraph (o) of AD 2022-19-02, with no changes. For airplanes with an original airworthiness certificate or original export certificate of airworthiness issued on or before July 1, 2021, except as specified in paragraph (h) of this AD: Comply with all required actions and compliance times specified in, and in accordance with, European Union Aviation Safety Agency (EASA) AD 2021-0250, dated November 17, 2021 (EASA AD 2021-0250). Accomplishing the revision of the existing maintenance or inspection program required by paragraph (j) of this AD terminates the requirements of this paragraph.

(h) Retained Exceptions to EASA AD 2021-0250, With No Changes

This paragraph restates the exceptions specified in paragraph (p) of AD 2022-19-02, with no changes.

(1) Where EASA AD 2021-0250 refers to its effective date, this AD requires using December 22, 2022 (the effective date of AD 2022-19-02).

(2) The requirements specified in paragraphs (1) and (2) of EASA AD 2021-0250 do not apply to this AD.

(3) Paragraph (3) of EASA AD 2021-0250 specifies to “revise the AMP” within 12 months after its effective date, but this AD requires revising the existing maintenance or inspection program, as applicable, within 90 days after December 22, 2022 (the effective date of AD 2022-19-02).

(4) The initial compliance time for doing the tasks specified in paragraph (3) of EASA 2021-0250 is at the applicable “limitations and associated thresholds” as incorporated by the requirements of paragraph (3) of EASA AD 2021-0250, or within 90 days after December 22, 2022 (the effective date of AD 2022-19-02), whichever occurs later.

(5) The provisions specified in paragraphs (4) and (5) of EASA AD 2021-0250 do not apply to this AD.

(6) The “Remarks” section of EASA AD 2021-0250 does not apply to this AD.

(i) Retained Restrictions on Alternative Actions, and Intervals With No Changes

This paragraph restates the requirements of paragraph (q) of AD 2022-19-02, with no changes. Except as specified in paragraph (j) of this AD: After the existing maintenance or inspection program has been revised as required by paragraph (g) of this AD, no alternative actions (e.g., inspections) and intervals are allowed unless they are approved as specified in the provisions of the “Ref. Publications” section of EASA AD 2021-0250.

(j) New Revision of the Existing Maintenance or Inspection Program

Except as specified in paragraph (k) of this AD: Comply with all required actions and compliance times specified in, and in accordance with, EASA AD 2024-0014, dated January 10, 2024 (EASA AD 2024-0014). Accomplishing the revision of the existing maintenance or inspection program required by this paragraph terminates the requirements of paragraph (g) of this AD.

(k) Exceptions to EASA AD 2024-0014

(1) This AD does not adopt the requirements specified in paragraphs (1) and (2) of EASA AD 2024-0014.

(2) Paragraph (3) of EASA AD 2024-0014 specifies revising “the AMP,” within 12 months after its effective date, but this AD requires revising the existing maintenance or inspection program, as applicable, within 90 days after the effective date of this AD.

(3) The initial compliance time for doing the tasks specified in paragraph (3) of EASA AD 2024-0014 is at the applicable “limitations” as incorporated by the requirements of paragraph (3) of EASA AD 2024-0014, or within 90 days after the effective date of this AD, whichever occurs later.

(4) This AD does not adopt the provisions specified in paragraphs (4) and (5) of EASA AD 2024-0014.

(5) This AD does not adopt the “Remarks” section of EASA AD 2024-0014.

(l) New Provisions for Alternative Actions and Intervals

After the existing maintenance or inspection program has been revised as required by paragraph (j) of this AD, no alternative actions (e.g., inspections) and intervals are allowed unless they are approved as specified in the provisions of the “Ref. Publications” section of EASA AD 2024-0014.

(m) Terminating Action for AD 2014-16-22 and AD 2017-25-13

(1) Accomplishing the action required by task number 213100-00001-1-E of “the ALS” as specified in EASA AD 2021-0250 or “the ALS” as specified in EASA AD 2024-0014, within the compliance time specified for that task terminates all requirements of AD 2014-16-22, for Airbus SAS Model A330-200, -200 Freighter, and -300 series airplanes only.

(2) Accomplishing the action required by task number 274400-00004-1-E of “the ALS” as specified in EASA AD 2021-0250 or “the ALS” as specified in EASA AD 2024-0014, within the compliance time specified for that task terminates all requirements of AD 2017-25-13 for Airbus SAS Model A330-200, -200 Freighter, and -300 series airplanes only.

(n) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (o) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(o) Additional Information

For more information about this AD, contact Vladimir Ulyanov, Aviation Safety Engineer, FAA, 2200 South 216th St., Des Moines, WA 98198; phone: 206-231-3229; email: vladimir.ulyanov@faa.gov.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 7, 2025.

(i) European Union Aviation Safety Agency (EASA) AD 2024-0014, dated January 10, 2024.

(ii) [Reserved]

(4) The following service information was approved for IBR on December 22, 2022 (87 FR 68891, November 17, 2022).

(i) EASA AD 2021-0250, dated November 17, 2021.

(ii) [Reserved]

(5) For EASA AD 2024-0014 and EASA AD 2021-0250, contact EASA, Konrad-Adenauer-Ufer 3, 50668 Cologne, Germany; telephone +49 221 8999 000; email ADs@easa.europa.eu; website easa.europa.eu. You may find these EASA ADs on the EASA website at ad.easa.europa.eu.

(6) You may view this material that is incorporated by reference at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations, or email fr.inspection@nara.gov.

Issued on December 13, 2024.
Suzanne Masterson,
Deputy Director, Integrated Certificate Management Division, Aircraft Certification Service.

[FR Doc. 2025-02038 Filed 1-30-25; 8:45 am]

BILLING CODE 4910-13-P